Proclamation 9641 of September 15, 2017

National Gang Violence Prevention Week, 2017

By the President of the United States of America

A Proclamation

Every day, innocent Americans are the victims of terrible crimes perpetrated by violent gangs and criminal cartels. During National Gang Violence Prevention Week, my Administration pledges to restore justice to American communities and keep evil off our streets by eradicating the gangs that commit these despicable acts.

During the previous Administration, the number of gangs and gang members reached an alarming 20-year high. In 2015 alone, homicides spiked by 17 percent in America's 50 largest cities—the largest increase in 25 years. Gangs continue to evolve and adapt. Today they have expanded to almost 1.5 million members nationwide who perpetrate an average of 48 percent of violent crimes in most jurisdictions and up to 90 percent in others. My Administration will not stand by idly as these menacing gangs threaten the safety and security of our communities.

Particularly, we must address the rise of violent transnational criminal gangs, such as MS-13, that have infiltrated our neighborhoods and recruited our vulnerable young people. Weak border security, failure to enforce immigration laws already on the books, and sanctuary cities have emboldened criminals to enter the United States illegally and enabled gang and transnational cartel members to engage with impunity in illegal human and drug trafficking, corruption and fraud, and barbaric acts including violence, sexual assaults, and murder.

My Administration has pledged to identify and eradicate transnational organized crime, gangs, and gang violence. During my first 100 days as President, the Immigration and Customs Enforcement Agency led a coordinated effort to capture more than 30,000 convicted criminal aliens, including more than 1,000 gang members and affiliates. Many of these arrests were of immigration fugitives who had committed heinous acts of gang violence: smuggling, sex crimes, arson, extortion, or cruelty to innocent children. By Executive Order, I also created the Council on Transnational Organized Crime, which has been hard at work coordinating Federal resources to better identify, prosecute, and dismantle transnational criminal organizations. As a result of these steps and the new partnerships we have formed at all levels of government, illegal border crossings have declined drastically since I took office.

The Congress has also indicated a willingness to address this pressing issue. Yesterday, the House passed H.R. 3697, the Criminal Alien Gang Member Removal Act. My Administration strongly supports this legislation. Once enacted, it will protect law-abiding Americans by denying criminal alien gang members admission into the United States and by giving law enforcement more effective tools to remove them. I encourage the Senate to act quickly to enact this bill into law and help protect the safety of Americans.

This week, let us rededicate ourselves to destroying the criminal gangs that have plagued American neighborhoods and communities for far too long. We owe this to all those affected by gang violence and to all who seek a brighter future.

NOW, THEREFORE, I, DONALD J. TRUMP, President of the United States of America, by virtue of the authority vested in me by the Constitution and laws of the United States, do hereby proclaim the week of September 17 through September 23, 2017, as “National Gang Violence Prevention Week.” I call upon the people of the United States to observe this week with appropriate ceremonies and activities.

IN WITNESS WHEREOF, I have hereunto set my hand this fifteenth day of September, in the year of our Lord two thousand seventeen, and of the Independence of the United States of America the two hundred and forty-second.

[FR Doc. 2017-20378

Filed 9-20-17; 11:15 am]

Billing code 3295-F7-P